DEPARTMENT OF ENERGY

[GDO Docket No. EA-473-A]

Application for Renewal of Authorization To Export Electric Energy; Northland Power and Energy Marketing (US) Inc.

AGENCY: Grid Deployment Office, Department of Energy.

ACTION: Notice of application.

SUMMARY: Northland Power and Energy Marketing (US) Inc. (NPEMUS or Applicant) has applied for renewed authorization to transmit electric energy from the United States to Canada pursuant to the Federal Power Act.

DATES: Comments, protests, or motions to intervene must be submitted on or before September 11, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Delegation Order No. S1-DEL-S3-2023 and Redelegation Order No. S3-DEL-GD1-2023.

On July 18, 2019, DOE issued Order No. EA-473 to NPEMUS to transmit electric energy from the United States to Canada as a power marketer for a period of five years. On June 21, 2024, NPEMUS filed an application (Application or App.) for renewal of its export authority for a five-year term. App. at 1.

According to its Application, NPEMUS is a power marketer “engaged in the purchase and sale of physical and financial energy commodities.” Id. at 1, 6. The Applicant states that it is “a corporation formed pursuant to the laws of the Province of Ontario with its principal place of business in Toronto, Ontario, Canada,” and “wholly-owned direct subsidiary of the holding company NP Energy Services Holdings, Inc.” Id. at 2. NPEMUS states that it is “authorized by the Federal Energy Regulatory Commission (FERC) to make wholesale sales of electric power and related products at market-based rates.” Id.

NPEMUS represents that it “does not own or control electric generation, transmission, or distribution facilities in the United States and does not hold a franchise or service territory or native load obligation within the United States or Canada.” Id. at 3. NPEMUS further states that because it “does not have a native load obligation, its exports will not impair its ability to meet current or prospective power supply obligations.” Id. at 5. The Applicant adds that its proposed exports “will not impair or impede sufficient electric supplies in the United States or the regional coordination of electric utility planning or operations.” App. at 5. Additionally, NPEMUS asserts that it will comply with all applicable reliability criteria, standards, and guidelines. Id. at 6.

The existing international transmission facilities to be utilized by the Applicant have been previously authorized by Presidential permits issued pursuant to Executive Order 10485, as amended, and are appropriate for open access transmission by third parties. See id. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning NPEMUS's Application should be clearly marked with GDO Docket No. EA-473-A. Additional copies are to be provided directly to Elizabeth W. Whittle, Nixon Peabody LLP, 799 Ninth Street NW, Suite 500, Washington, DC 20001, ewhittle@nixonpeabody.com; Gregory N. Hom, Nixon Peabody LLP, 799 Ninth Street NW, Suite 500, Washington, DC 20001, ghom@nixonpeabody.com; and Yonni Fushman, Northland Power Inc., 30 St. Clair Avenue West, 3rd Floor, Toronto, Ontario, Canada, M4V 3A1, legal@northlandpower.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0or by emailing Electricity.Exports@hq.doe.gov.

Signing Authority: This document of the Department of Energy was signed on August 2, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 7, 2024.
Treena V. Garrett,
Federal Register Liaison Officer, U.S. Department of Energy.

[FR Doc. 2024-17888 Filed 8-9-24; 8:45 am]

BILLING CODE 6450-01-P